DEPARTMENT OF THE INTERIOR

National Park Service

[NPS-WASO-NAGPRA-NPS0039958; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after May 19, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of 69 cultural items have been requested for repatriation. The 69 objects of cultural patrimony are 14 lots of ceramic sherds, 13 lots of lithics, nine lots of animal bone, seven lots of unmodified shell, four lots of geological materials, three lots of glass objects, two lots of metal objects, three lots of shell beads, five lots of botanical materials, one lot of organic material, two lots of fire altered rock, one metate, one modified animal bone, two manos, one lots of polished stone objects, and one stone sucking tube.

In 1971, the UCR Archaeological Research Unit was contracted to conduct an archaeological inventory of the Palm Hills Area. UCR Archaeologists, James Kelly and Thomas King led the project which consisted of a survey of Palm Canyon, Andreas Canyon, Murray Canyon, and Asbestos Spring. A total of 29 sites recorded and 335 cultural items were collected from the surface of various sites including ceramic sherds, lithic objects, animal bone, unmodified shell, and geological materials. The materials were subsequently housed at UCR under accession number 35.

In 1984, the UCR Archaeological Research Unit (UCRARU) was contracted to conduct an archaeological assessment and field-survey of a property in the Palm Canyon area near Palm Springs, California. The project, ARU #770, was led by Daniel McCarthy and Philip Wilke. The archaeological assessment of the site revealed a scattering of ceramic sherds, as well as a historic dump site with old-style solder cans and broken glass. The excavation of one 1x1 meter unit recovered Native American pottery fragments, square nails, glazed crockery, glazed sherds (of Chinese origin), two buttons, and some rusted metal fragments likely representing a metal container. The materials were subsequently housed at the University of California, Riverside under accession number 44.

In 1978, the University of California, Riverside Archaeological Research Unit (UCRARU) conducted a cultural resource assessment on a parcel of land located on the northwest edge of the city of Indian Wells ahead of a development project. The project, ARU #300, was led by James Swenson and consisted of a field-survey and the collection of surface materials. Archaeological site CA-RIV-1315 was recorded during the project. Archaeologists believed that it may be the western edge of archaeological site CA-RIV-64, which represents the ancestral Cahuilla village of Pal Kavinish. Materials including ceramics, lithics, shells beads, faunal bone, and unmodified shell were collected during the assessment and subsequently housed at UCR under accession number 60.

In 1980, the University of California, Riverside Archaeological Research Unit (UCRARU) conducted an archaeological assessment of 880 acres of land located at the foot of the Santa Rosa Mountains ahead of a development project. The project, UCRARU #574, was led by Alan Davis, James Swenson, and Philip Wilke. The archaeologists relocated a previously recorded site, CA-RIV-1336, and located three more prehistoric sites. During the assessment, a field survey was conducted with the collection of surface materials which were housed at UCR under accession number 80. Archaeologists described these sites as the location of prehistoric weir fishing activities with the presence of scatter of Tizon Brown Ware ceramic sherds, stone house rings, and extensive concentrations of stone structures thought to be prehistoric fish weirs. Materials recovered from the sites included ceramics, lithics, and faunal bone.

In 1989, the University of California, Riverside Archaeological Research Unit (UCRARU) evaluated archaeological sites CA-RIV-2195 and CA-RIV-2196 ahead of proposed land development. The project, UCRARU #1006, was led by Daniel McCarthy and Philip Wilke. Archaeologists identified and relocated two archaeological sites. The archaeologists described the site of CA-RIV-2195 as a scatter of fifteen fire-cracked rock fragments, twenty potsherds, one piece of shell, and several pieces of fire clay. They described CA-RIV-2196 as 16 areas of concentrated broken rock, pottery, or fragments of non-human bone. Surface materials were collected and housed at UCR under accession number 145. The site was later revisited by UCRARU to conduct test excavations of the area. The excavation recovered pottery fragments, a single mano fragment, faunal remains, a metate, and several manos. This collection of surface materials was housed at UCR under accession number 145.

In 1990, the University of California, Riverside Archaeological Unit (UCRARU) conducted an archaeological assessment on a right-of-way corridor located in the City of La Quinta at the request of the Transpacific Development Company, ahead of the Washington Plaza project. The assessment consisted of a field survey during which archaeologists recorded one archaeological site, CA-RIV-3679. The site was later revisited in 1992 by UCRARU and conducted an additional on-foot survey along with test excavations at nearby archaeological site CA-RIV-2200. Cultural objects including ceramics, glass, lithics, shell beads, animal bone, floral materials, geological materials, unmodified shell, and fire-altered rock were collected from the site and housed at UCR under accession numbers 146, 211, and 212.

In 1989, the University of California, Archaeological Research Unit (UCRARU) conducted a reevaluation of several archaeological sites ahead of a development project. The project, UCRARU #1014, was led by Daniel McCarthy and Philip Wilke and consisted of a foot survey of 80 acres of land, archaeological mapping, surface collection, and test excavation. Archaeologists examined three prehistoric sites on the property, with the largest concentration of artifacts present at CA-RIV-1769. They described this site as consisting of a large hearth area exposed by deflation on top of a dune formation with the presence of charcoal, ash, numerous pieces of fish, bird, and small mammal bone, shell, ceramic shreds, debitage, a bone awl tip, and Olivella shell bead. Eleven 1m x 1.5m test units were excavated and yielded a total of 135 artifacts including animal bone, ceramics, lithics, shell beads, floral material, unmodified shell, ceramics. These objects were housed at UCR under accession numbers 147, 148, and 149.

In 1992, the University of California, Riverside Archaeological Research Unit (UCRARU) was contracted to oversee the development of land near the Whitewater River Channel near La Quinta. Archaeologists noted that project was near known archaeological sites. During the monitoring cultural objects were recovered from archaeological site CA-RIV-3683 including debitage, potsherds, ground stone, fire-affected rocks and daub, two projectile points, and one broken pestle. They were housed at UCR under accession number 152.

In 1990, the University of California, Riverside Archaeological Research Unit (UCRARU) conducted archaeological investigations at five prehistoric sites located in the City of La Quinta. The project, UCRARU #1044, was led by Brooke Arkush. The investigation consisted of archaeological mapping, surface collection, and the excavation of two test units. Archaeologists described this site as consisting of a small ceramic scatter on a small sand ridge. Excavation and surface collections were housed at UCR under accession number 165. During the same project, cremated human remains were found at nearby archaeological site CA-RIV-3144.

In November 1990, the University of California, Riverside Archaeological Research Unit (UCRARU) was contracted to assess land in the Coachella Valley ahead of a development project. The assessment consisted of a survey during which archaeologists recorded 17 isolated finds and archaeological site CA-RIV-4090. Items recovered during the survey included ceramic sherds, faunal bone, burnt daub, lithics, floral materials, geological materials, unmodified shell, and fire-altered rock, which were housed at UCR under accession number 168.

In 1991, the University of California, Archaeological Research Unit was contracted to assess a parcel of land that was proposed to be developed for a new civic center and baseball field in the city of Palm Desert. Archaeologists conducted an on-foot survey and recorded archaeological site CA-RIV-4157, which consisted of a scatter of ceramics and lithic flakes. The materials were collected and housed at the University of California, Riverside under accession number 204.

In 2022, a large metate was found in the University of California, Riverside's archaeological collections with a label reading “CA-RIV-112”. No record of the metate could be found in UCR's original accession records. Site records describe the site as a possible camp. An additional collection from the site was reported to have been housed at the Riverside Municipal Museum (RMM) under accession numbers A929-1 through 775. Other objects reportedly noted at the site include metates, manos, projectile points, and scrapers. Although no burials were noted on the site records, the recorder noted that teeth and mandibles were reported in the RMM collection. The circumstances surrounding UCR's acquirement of the metate are unknown and it is unclear if it came from the RMM collection. It was assigned the new accession number 405 in 2022 after being discovered in the collections.

In 1977, the County of Riverside, Department of Airports contracted the University of California, Riverside Archaeological Research Unit (UCRARU) to survey large portions of the Thermal Airport property that was being proposed for agricultural development. The property is located near the historic Cahuilla village of La Mesa and large archaeological sites were recorded in 1951 in the northwestern portion of the airport land. During their survey of the property, UCRARU archaeologists located archaeological site CA-RIV-148. The site consisted of pot sherd scatters, multiple human cremations, middens, hearths, and large metates. UCRARU report #209 does not mention the removal of any artifacts from the site, however, in 2023, UCR NAGPRA Program staff discovered an animal bone flute, lithics flakes, a projectile point, and 6 ceramic sherds labelled “CA-RIV-148”. The objects were subsequently assigned UCR accession number 424 and are assumed to have been collected during the 1977 project.

In 1978, the University of California, Riverside Archaeological Research Unit (UCRARU) was contracted to assess 11 acres of land in Indian Wells that was scheduled for residential development. The archaeological investigation was led by Jim Swenson and consisted of a field survey and surface collection of artifacts including a mano, ceramic sherds, lithic flakes, and faunal bone. During the project archaeologists recorded archaeological site CA-RIV-1455, which they described as light scatters of potsherds. The site is about a mile east from archaeological sites CA-RIV-1315 and CA-RIV-64, which are known to the Cahuilla as the ancestral village of Pal Kavinish.

In 1991, the University of California, Riverside Archaeological Research Unit (UCRARU) conducted a field survey of approximately 20 acres of land near Thermal to determine if any archaeological resources might be impacted by future development of unincorporated areas. ARU Report #1123 indicates that no archaeological sites were located during the survey, however, in 2024 UCR NAGPRA Program staff found 3 lithic objects labelled “CA-RIV-4113, ARU 1123” in the University's collections. The objects are one highly polished mano and two highly polished, long and thin lithic objects. The objects were assigned UCR accession number 446.

In 1990, the University of California, Riverside Archaeological Research Unit (UCRARU) was contracted by an animal sanctuary in Mountain Center, California, to reevaluate a large archaeological site located in the sanctuary. The site, CA-RIV-1935, was first recorded in 1980 by UCR archaeology students and was described as being a significant site with pictographs, milling features, and numerous surface artifacts like polished bone, projectiles points, and manos. The 1990 evaluation was led by Robert Yohe III and consisted of an on-foot survey to locate the boundaries of the site. During the survey a steatite pipe or sucking tube and a quartz projectile point were noted on the surface of the site, but were not reported to have been collected. In 2024, however, UCR NAGPRA Program staff found the sucking tube, projectile point, and two glass trade beads in a box labelled “CA-RIV-1935”. The objects were assigned UCR accession number 452.

In 1972, the University of California, Riverside Archaeological Research Unit (UCRARU) conducted a survey of two areas on lower Mission Creek ahead of proposed flood control measures. During the ground survey, archaeologists located two archaeological sites. The first site, CA-RIV-1294, was described as the ruins of a historic home; the second site, CA-RIV-1119, was described as a scatter of ceramic sherds. ARU Report #56 does not note the recovery of any artifacts, however, in 2023 UCR NAGPRA Program staff found two arrowheads and two flakes labelled “CA-RIV-1119, CA-RIV-1249” in the University's collections.

In 1989, the University of California, Riverside Archaeological Research Unit (UCRARU) was contracted to conduct an archaeological assessment of land south of Mission Creek. During the assessment, archaeologists identified three archaeological sites; CA-RIV-3658, -3656-H, and -3657-H. Sites -3656-H and 3657-H were described as historic camp sites associated with a nearby mining or well shaft. Archaeological site CA-RIV-3658 was described as an isolated prehistoric milling slick. No artifacts were reported to have been collected during the assessment, however, UCR NAGPRA Program staff discovered one ceramic potsherd labelled “CA-RIV-3658 nearby isolate (Mission Creek area).

Determinations

The University of California, Riverside has determined that:

• The 69 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Agua Caliente Band of Cahuilla Indians of the Agua Caliente Indian Reservation, California; Augustine Band of Cahuilla Indians, California; Cabazon Band of Cahuilla Indians (previously listed as Cabazon Band of Mission Indians, California); Cahuilla Band of Indians; Los Coyotes Band of Cahuilla and Cupeno Indians, California; Ramona Band of Cahuilla, California; Santa Rosa Band of Cahuilla Indians, California; and the Torres Martinez Desert Cahuilla Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

(Authority: Native American Graves Protection and Repatriation Act, 25 U.S.C. 3004 and the implementing regulations, 43 CFR 10.9.)

Dated: April 8, 2025.
Melanie O'Brien,
Manager, National NAGPRA Program.

[FR Doc. 2025-06647 Filed 4-17-25; 8:45 am]

BILLING CODE 4312-52-P